DEPARTMENT OF COMMERCE

Economic Development Administration

13 CFR Part 301

[Docket No.: 250623-0111]

RIN 0610-AA77

Elimination of Supplementary Grant Regulation

AGENCY: Economic Development Administration, U.S. Department of Commerce.

ACTION: Final rule.

SUMMARY: Through this final rule, the Economic Development Administration (EDA), U.S. Department of Commerce, is eliminating the regulations on supplementary investment assistance. The regulation is confusing and does not provide any guidance in addition to what is already in section 205 of EDA's enabling statute, the Public Works, and Economic Development Act of 1965.

DATES: This rule is effective July 2, 2025.

FOR FURTHER INFORMATION CONTACT: Jeffrey Roberson, Chief Counsel, Office of the Chief Counsel, Economic Development Administration, U.S. Department of Commerce, 1401 Constitution Avenue NW, Suite 72023, Washington, DC 20230; telephone: (202) 482-1315; email: jroberson@eda.gov.

SUPPLEMENTARY INFORMATION:

Background

EDA's enabling statute is the Public Works and Economic Development Act of 1965 (PWEDA) and EDA's regulations are codified at 13 CFR Chapter III. 13 CFR 301.6 is intended to implement Section 205 of PWEDA which provides that, pursuant to a request by an eligible applicant, EDA may supplement a grant awarded by another “designated federal grant program,” provided the eligible applicant qualifies for financial assistance under such program but is unable to supply the required matching share because of its economic situation. However, this regulation has proved to be confusing to the public because it does not provide guidance beyond what is in the law itself. Therefore, EDA is eliminating the superfluous regulation located at 13 CFR 301.6 as it is unnecessary and burdensome to have the public try to ascertain the intent of the regulation, when in fact there is none.

Classification

Administrative Procedure Act and Regulatory Flexibility Act

Pursuant to 5 U.S.C. 553(b)(B), there is good cause to waive prior notice and an opportunity for public comment on this action, as notice and comment are unnecessary. This rule removes a superfluous regulation that does not provide any additional guidance beyond what is already in section 205 of PWEDA. Therefore, public comment would serve no purpose and is unnecessary. There is also good cause under 5 U.S.C. 553(d)(3) to waive the 30-day delay in effectiveness as this rule does not alter the rights or responsibilities of any party, and delaying implementation of this rule and keeping the superfluous regulation may continue to cause confusion.

Because prior notice and an opportunity for public comment are not required pursuant to 5 U.S.C. 553, or any other law, the analytical requirements of the Regulatory Flexibility Act (5 U.S.C. 601 et seq.) are inapplicable. Therefore, a regulatory flexibility analysis has not been prepared.

Executive Orders No. 12866, 13563, and 14192

This final rule was drafted in accordance with Executive Orders 12866, 13563, and 14192. OMB has determined that this rule is not significant for purposes of Executive Orders 12866 and 13563. This final rule is deregulatory pursuant to Executive Order 14192.

Congressional Review Act

This final rule is not major under the Congressional Review Act (5 U.S.C. 801 et seq.).

Executive Order No. 13132

This final rule does not contain policies that have federalism implications.

Paperwork Reduction Act

This final rule contains no information collection requirements under the Paperwork Reduction Act of 1995.

List of Subjects in 13 CFR Part 301.6

Community development, Grant programs-housing and community development.

For the reasons discussed above, EDA amends 13 CFR part 301 as follows:

PART 301—ELIGIBILITY, INVESTMENT RATE AND APPLICATION REQUIREMENTS

1. The authority citation for part 301 continues to read as follows:

Authority: 42 U.S.C. 3121; 42 U.S.C. 3141-3147; 42 U.S.C. 3149; 42 U.S.C. 3161; 42 U.S.C. 3175; 42 U.S.C. 3192; 42 U.S.C. 3194; 42 U.S.C. 3211; 42 U.S.C. 3233; Department of Commerce Delegation Order 10-4.

§ 301.6 [Removed and Reserved]

2. Remove and reserve § 301.6.

Dated: June 27, 2025.
Benjamin Page,
Deputy Assistant Secretary and Chief Operating Officer.

[FR Doc. 2025-12312 Filed 7-1-25; 8:45 am]

BILLING CODE 3510-24-P